DEPARTMENT OF TRANSPORTATION

Federal Aviation Administration

Sixth Meeting: RTCA, NextGen Advisory Committee

AGENCY: Federal Aviation Administration (FAA), U.S. Department of Transportation (DOT).

ACTION: Notice of a meeting of RTCA, NextGen Advisory Committee.

SUMMARY: The FAA is issuing this notice to advise the public of the sixth meeting of RTCA, NextGen Advisory Committee.

DATES: The meeting will be held May 24, 2012, from 9:00 a.m.-3:00 p.m.

ADDRESSES: The meeting will be held at The Boeing Company, TA Wilson Meeting Room 1301 SW 16th St., Renton, WA. Special Facility Access Instructions: The meeting is being held at the secured facilities of The Boeing Company. All members of the public are required to register in advance by contacting Ms. Debbie Ridgway via email Debbie.ridgway@boeing.com and provide the following information: Name (as it appears on your identification), Company, Phone number, Country of origin.

FOR FURTHER INFORMATION CONTACT: The RTCA Secretariat, 1150 18th Street NW., Suite 910, Washington, DC 20036: or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a NextGen Advisory Committee meeting. The agenda will include the following:

May 24, 2012

• 9:00-9:05 Opening of Meeting

• Chairman Dave Barger, President & CEO JetBlue Airways

• 9:05-9:15 Welcome & Facility Overview

• Sherry Carbary, Vice President Flight Services Commercial Aviation Services Boeing Commercial Airplanes, NAC Meeting Host

• 9:15-9:17 Official Statement of Designated Federal Official

• Michael Huerta, FAA Acting Administrator

• 9:17-9:20 Review and Approval of February 3, 2012 Meeting Summary/NAC and NACSC TORs Revisions

• 9:20-9:30 Chairman's Report—Chairman Barger

• 9:30-10:00 FAA Report—Mr. Huerta

• 10:00-10:45 Review and Approve Recommendation for Submission to FAA NextGen Implementation Metrics—a recommendation for an executive-level set of metrics that capture an overall status of NextGen implementation

• 10:45-11:15 Break

• 11:15-12:15 Best Equipped Best Served

A facilitated discussion of an important principle for NextGen implementation

• 12:15-1:00 Lunch Break

• 1:00-1:20 Review and Approve Recommendation for Submission to FAA

• Metroplex Mapping Results—a recommendation completing the mapping of integrated capabilities to the remaining 20 Metroplexes. This mapping fulfills the Tasking and enables an assessment of the benefits and feasibility of these site specific capabilities. Review and Approve Recommendations for Submission to FAA

• 1:20-2:45 Non-technical Barriers to Implementing NextGen

• Anticipated Issues for NAC consideration and action at the next meeting, October 4, 2012, Dayton, Ohio

• 2:55-3:00 Other Business

• 3:00 Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 24, 2012.
John Raper,
Manager, Business Operations Branch, Federal Aviation Administration.

[FR Doc. 2012-10368 Filed 4-27-12; 8:45 am]

BILLING CODE 4910-13-P